DEPARTMENT OF COMMERCE

International Trade Administration

[A-580-844]

Steel Concrete Reinforcing Bars from South Korea: Revocation of Antidumping Duty Order

AGENCY: Import Administration, International Trade Administration, Department of Commerce.

SUMMARY: On August 1, 2006, the Department of Commerce (“the Department”) initiated a sunset review of the antidumping duty (“AD”) order on steel concrete reinforcing bars (“rebar”) from South Korea. Pursuant to section 751(c) of the Tariff Act of 1930, as amended (“the Act”), the International Trade Commission (“ITC”) determined that revocation of this order would not be likely to lead to continuation or recurrence of material injury to an industry in the United States within a reasonably foreseeable time. Therefore, pursuant to section 751(d)(2) of the Act and 19 CFR 351.222(i)(1)(iii), the Department is revoking the AD order on rebar from South Korea.

EFFECTIVE DATE: September 7, 2006.

FOR FURTHER INFORMATION CONTACT: Brandon Farlander or Audrey Twyman, AD/CVD Operations Office 1, Import Administration, International Trade Administration, U.S. Department of Commerce, 14th Street and Constitution Avenue, NW, Washington, DC 20230; telephone: (202) 482-0182, (202) 482-3534, respectively.

SUPPLEMENTARY INFORMATION:

Background

On September 7, 2001, the Department issued the AD order on rebar from South Korea. See Antidumping Duty Orders: Steel Concrete Reinforcing Bars From Belarus, Indonesia, Latvia, Moldova, People's Republic of China, Poland, Republic of Korea and Ukraine, 66 FR 46777 (September 7, 2001). On August 1, 2006, the Department initiated, and the ITC instituted, a sunset review of the order on rebar from South Korea. See Initiation of Five-year (“Sunset”) Reviews, 71 FR 43443 (August 1, 2006); and Steel Concrete Reinforcing Bars From Belarus, China, Indonesia, Korea, Latvia, Moldova, Poland, and Ukraine, Investigations Nos. 731-TA-873-875, 877-880, and 882 (Review), 71 FR 43523 (August 1, 2006).

As a result of the sunset review of this order, the Department found that revocation of the order would be likely to lead to the continuation or recurrence of dumping. See Steel Concrete Reinforcing Bars from Moldova, the People's Republic of China, South Korea, Indonesia, Poland, and Belarus; Final Results of the Expedited Sunset Reviews of the Antidumping Duty Orders, 71 FR 70509 (December 5, 2006). The Department notified the ITC of the magnitude of the margins likely to prevail were the order to be revoked.

On August 1, 2007, the ITC determined, pursuant to section 751(c) of the Act, that revocation of the order would not be likely to lead to continuation or recurrence of material injury to an industry in the United States within a reasonably foreseeable time. See Steel Concrete Reinforcing Bars From Belarus, China, Indonesia, Korea, Latvia, Moldova, Poland, and Ukraine, Investigations Nos. 731-TA-873-875, 877-880, and 882 (Review), 72 FR 42110, (August 1, 2007).

Scope of the Order

The product covered by this order is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the order is dispositive.

Determination

As a result of the determination by the ITC that revocation of the order is not likely to lead to the continuation or recurrence of material injury to an industry in the United States, the Department, pursuant to section 751(d) of the Act, is revoking the order on rebar from South Korea. Pursuant to section 751(d)(2) of the Act and 19 CFR 351.222(i)(2)(i), the effective date of revocation is September 7, 2006 (i.e., the fifth anniversary of the date of publication in the Federal Register of the order). The Department will notify U.S. Customs and Border Protection to discontinue suspension of liquidation and collection of cash deposits on entries of the subject merchandise entered or withdrawn from warehouse on or after September 7, 2006, the effective date of revocation of the order. The Department will complete any pending administrative reviews of the order and will conduct administrative reviews of subject merchandise entered prior to the effective date of revocation in response to appropriately filed requests for review.

This five-year sunset review and notice are in accordance with section 751(d)(2) and published pursuant to section 777(i)(1) of the Act.

Dated: August 2, 2007.
David M. Spooner,
Assistant Secretary for Import Administration.

[FR Doc. E7-15571 Filed 8-8-07; 8:45 am]

BILLING CODE 3510-DS-S